DEPARTMENT OF THE INTERIOR

National Park Service

[N6655; NPS-WASO-NAGPRA-NPS0041392; PPWOCRADN0-PCU00RP14.R50000]

Notice of Intended Repatriation: Missouri Historical Society, St. Louis, MO

AGENCY: National Park Service, Interior.

ACTION: Notice.

SUMMARY: In accordance with the Native American Graves Protection and Repatriation Act (NAGPRA), the Missouri Historical Society (MHS) intends to repatriate certain cultural items that meet the definition of objects of cultural patrimony and that have a cultural affiliation with the Indian Tribes or Native Hawaiian organizations in this notice.

DATES: Repatriation of the cultural items in this notice may occur on or after January 16, 2026.

ADDRESSES: Send additional, written requests for repatriation of the cultural items in this notice to Brady Wolf, Missouri Historical Society, 225 S Skinker Blvd., St. Louis, MO 63105, email bwolf@mohistory.org.

SUPPLEMENTARY INFORMATION: This notice is published as part of the National Park Service's administrative responsibilities under NAGPRA. The determinations in this notice are the sole responsibility of the MHS, and additional information on the determinations in this notice, including the results of consultation, can be found in the summary or related records. The National Park Service is not responsible for the determinations in this notice.

Abstract of Information Available

A total of eight cultural items have been requested for repatriation. The eight objects of cultural patrimony are four petroglyphs and four pictographs.

At an unknown time prior to 1891 Dr. James Patrick of Belleville Illinois removed a carved stone petroglyph of a footprint from its original location in either Madison or St. Clair County, Illinois. He transferred it to the MHS in 1891.

In 1905 George Dickson of Alton Illinois removed four pictographs from their original location at Levis Bluff. He sold the pictographs to the MHS in 1921 via a deal with Dr. Henry Milton Whelpley.

At an unknown time, an unknown person or persons took one carved petroglyph of a footprint from an unknown site in Ste. Genevieve, Ste. Genvieve County, Missouri. This petroglyph was found and catalogued during a 1966 inventory of cultural heritage stewarded by the MHS performed by personnel at the University of Missouri, Columbia.

At an unknown time prior to 1915 an unknown person or person took one carved petroglyph of a footprint from the Donnell Site in Jefferson County, Missouri. This petroglyph was found and catalogued during a 1993 internal inventory at the MHS.

At an unknown time prior to 1915 an unknown person or person took one carved petroglyph of a footprint from an unknown locality in Illinois or Missouri. This petroglyph was found and catalogued during a 1993 internal inventory at the MHS.

Determinations

The MHS has determined that:

• The eight objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and The Osage Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 16, 2026. If competing requests for repatriation are received, the MHS must determine the most appropriate requestor prior to repatriation. Requests for joint repatriation of the cultural items are considered a single request and not competing requests. The MHS is responsible for sending a copy of this notice to the Indian Tribes and Native Hawaiian organizations identified in this notice and to any other consulting parties.

Authority: Native American Graves Protection and Repatriation Act, 25 U.S.C. 3004 and the implementing regulations, 43 CFR 10.9.

Dated: November 21, 2025.
Melanie O'Brien,
Manager, National NAGPRA Program.

[FR Doc. 2025-23000 Filed 12-16-25; 8:45 am]

BILLING CODE 4312-52-P